DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Events and Efforts Supporting National Cybersecurity Career Awareness Week.

OMB Control Number: #0693-XXXX. New information collection.

Form Number(s): N/A.

Type of Request: Regular.

Number of Respondents: 500 annual respondents.

Average Hours per Response: 10 minutes.

Burden Hours: 83 hours annually.

Needs and Uses: This collection is necessary to support the National Initiative for Cybersecurity Education (NICE) Strategic Plan objective to increase cybersecurity career awareness. The collection of information will allow the NICE Program Office to share with the public a compiled list of events and opportunities to learn about cybersecurity careers. Doing so will provide a resource for potential attendees, extend the reach of programs and efforts, and encourage more individuals and organizations to get involved in National Cybersecurity Career Awareness Week.

Affected Public: Business or other for profit.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-18282 Filed 8-23-18; 8:45 am]

BILLING CODE 3510-13-P